DEPARTMENT OF ENERGY

Federal Energy Regulatory Commission

Combined Notice of Filings #1

February 19, 2009.

Take notice that the Commission received the following exempt wholesale generator filings:

Docket Numbers: EG09-28-000.

Applicants: RPL Holdings, Inc.

Description: RPL Holdings, Inc. submits notice of Self-Certification of Exempt Wholesale Generator Status.

Filed Date: 02/17/2009.

Accession Number: 20090218-0171.

Comment Date: 5 p.m. Eastern Time on Tuesday, March 10, 2009.

Docket Numbers: EG09-29-000.

Applicants: Reliant Energy Florida, LLC.

Description: Reliant Energy Florida, LLC submits a Notice of Self-Certification of Exempt Wholesale Generator Status.

Filed Date: 02/17/2009.

Accession Number: 20090218-0170.

Comment Date: 5 p.m. Eastern Time on Tuesday, March 10, 2009.

Take notice that the Commission received the following electric rate filings:

Docket Numbers: ER98-4512-006.

Applicants: Consolidated Water Power Company.

Description: Consolidated Water Power Co. submits supplements to their request to replace the FERC Electric Tariff, Original Volume 1, Second Revised Sheet 1 et al.

Filed Date: 02/12/2009.

Accession Number: 20090218-0135.

Comment Date: 5 p.m. Eastern Time on Friday, February 27, 2009.

Docket Numbers: ER03-428-008.

Applicants: ConocoPhillips Company.

Description: ConocoPhillips Company submits an updated market power analysis for the Southeast Region.

Filed Date: 02/17/2009.

Accession Number: 20090218-0151.

Comment Date: 5 p.m. Eastern Time on Monday, April 20, 2009.

Docket Numbers: ER03-563-065.

Applicants: Devon Power LLC.

Description: ISO New England, Inc. et al. submits their Compliance Statement re New England's capacity market design.

Filed Date: 02/17/2009.

Accession Number: 20090218-0153.

Comment Date: 5 p.m. Eastern Time on Tuesday, March 10, 2009.

Docket Numbers: ER06-787-007.

Applicants: Idaho Power Company.

Description: Idaho Power Co. submits revisions to its rate schedule reflecting the Commission's findings in the 1/15/09 Order.

Filed Date: 02/17/2009.

Accession Number: 20090218-0166.

Comment Date: 5 p.m. Eastern Time on Tuesday, March 10, 2009.

Docket Numbers: ER07-1356-004; ER07-1112-003; ER07-1113-003; ER07-1115-003; ER07-1116-003; ER07-1117-003; ER07-1358-004; ER07-1118-003; ER07-1119-003; ER07-1120-003; ER07-1122-003; ER00-2885-019; ER01-2765-018; ER02-1582-016; ER08-148-003; ER05-1232-011; ER02-1582-016; ER02-2102-018; ER03-1283-013.

Applicants: BE Alabama LLC; BE Allegheny LLC; BE CA LLC; BE Colquitt LLC; BE Ironwood LLC; BE KJ LLC; BE Louisiana LLC; BE Rayle LLC; BE Red Oak LLC; BE Satilla LLC; BE Walton LLC; Cedar Brakes I, L.L.C.; Cedar Brakes II, LLC; Mohawk River Funding IV, L.L.C.; CENTRAL POWER & LIME INC; J.P. Morgan Ventures Energy Corporation; Mohawk River Fund IV, L.L.C.; Utility Contract Funding, L.L.C.; Vineland Energy LLC.

Description: JP Morgan Companies submits response to recent request from Commission Staff re the updated compliance filing that was submitted on 11/13/08.

Filed Date: 02/04/2009.

Accession Number: 20090210-0040.

Comment Date: 5 p.m. Eastern Time on Monday, March 2, 2009.

Docket Numbers: ER09-539-001.

Applicants: Aspire Capital Management LLC.

Description: Aspire Capital Management LLC submits Amended Petition for Acceptance of Initial Tariff, Waiver and Blanket Authority et al.

Filed Date: 02/17/2009.

Accession Number: 20090218-0054.

Comment Date: 5 p.m. Eastern Time on Tuesday, March 10, 2009.

Docket Numbers: ER09-687-000.

Applicants: Florida MSW LLC.

Description: Florida MSW, LLC submits petition for acceptance of their FERC Electric Tariff, Original Volume 1.

Filed Date: 02/13/2009.

Accession Number: 20090218-0165.

Comment Date: 5 p.m. Eastern Time on Friday, March 06, 2009.

Docket Numbers: ER09-688-000.

Applicants: Florida MSW5 LLC.

Description: Florida MSW5, LLC submits petition for acceptance of their FERC Electric Tariff, Original Volume 1.

Filed Date: 02/13/2009.

Accession Number: 20090218-0164.

Comment Date: 5 p.m. Eastern Time on Friday, March 6, 2009.

Docket Numbers: ER09-689-000.

Applicants: Florida MSW3 LLC.

Description: Florida MSW3, LLC submits petition for acceptance of their FERC Electric Tariff, Original Volume 1.

Filed Date: 02/13/2009.

Accession Number: 20090218-0163.

Comment Date: 5 p.m. Eastern Time on Friday, March 06, 2009.

Docket Numbers: ER09-690-000.

Applicants: Florida MSW4 LLC.

Description: Florida MSW4, LLC submits petition for acceptance of their FERC Electric Tariff, Original Volume 1.

Filed Date: 02/13/2009.

Accession Number: 20090218-0162.

Comment Date: 5 p.m. Eastern Time on Friday, March 6, 2009.

Docket Numbers: ER09-691-000.

Applicants: Florida MSW2 LLC.

Description: Florida MSW2, LLC submits petition for acceptance of their FERC Electric Tariff, Original Volume 1.

Filed Date: 02/13/2009.

Accession Number: 20090218-0161.

Comment Date: 5 p.m. Eastern Time on Friday, March 6, 2009.

Docket Numbers: ER09-692-000.

Applicants: Marshall County/Holly Springs MSW LLC.

Description: Marshall County/Holly Springs MSW, LLC submits petition for acceptance of their FERC Electric Tariff, Original Volume 1.

Filed Date: 02/13/2009.

Accession Number: 20090218-0160.

Comment Date: 5 p.m. Eastern Time on Friday, March 6, 2009.

Docket Numbers: ER09-693-000.

Applicants: Kentucky MSW1 LLC.

Description: Kentucky MSW1, LLC submits petition for acceptance of their FERC Electric Tariff, Original Volume 1.

Filed Date: 02/13/2009.

Accession Number: 20090218-0159.

Comment Date: 5 p.m. Eastern Time on Friday, March 6, 2009.

Docket Numbers: ER09-694-000.

Applicants: Kentucky MSW2 LLC.

Description: Kentucky MSW2, LLC submits petition for acceptance of their FERC Electric Tariff, Original Volume 1.

Filed Date: 02/13/2009.

Accession Number: 20090218-0158.

Comment Date: 5 p.m. Eastern Time on Friday, March 6, 2009.

Docket Numbers: ER09-695-000.

Applicants: Ohio MSW1 LLC.

Description: Ohio MSW1, LLC submits petition for acceptance of their FERC Electric Tariff, Original Volume 1.

Filed Date: 02/13/2009.

Accession Number: 20090218-0157.

Comment Date: 5 p.m. Eastern Time on Friday, March 6, 2009.

Docket Numbers: ER09-696-000.

Applicants: New Mexico MSW2 LLC.

Description: New Mexico MSW2, LLC submits petition for acceptance of their FERC Electric Tariff, Original Volume 1.

Filed Date: 02/13/2009.

Accession Number: 20090218-0156.

Comment Date: 5 p.m. Eastern Time on Friday, March 6, 2009.

Docket Numbers: ER09-697-000.

Applicants: Utah MSW1 LLC.

Description: Utah MSW1, LLC submits petition for acceptance of their FERC Electric Tariff, Original Volume 1.

Filed Date: 02/13/2009.

Accession Number: 20090218-0155.

Comment Date: 5 p.m. Eastern Time on Friday, March 6, 2009.

Docket Numbers: ER09-698-000.

Applicants: New Mexico MSW1 LLC.

Description: New Mexico MSW1, LLC submits petition for acceptance of initial tariff, waivers and blanket authority (FERC Electric Tariff, Original Volume 1).

Filed Date: 02/13/2009.

Accession Number: 20090218-0154.

Comment Date: 5 p.m. Eastern Time on Friday, March 6, 2009.

Docket Numbers: ER09-699-000.

Applicants: Oregon MSW1 LLC.

Description: Oregon MSW1, LLC submits petition for acceptance of their FERC Electric Tariff, Original Volume 1.

Filed Date: 02/13/2009.

Accession Number: 20090218-0167.

Comment Date: 5 p.m. Eastern Time on Friday, March 6, 2009.

Docket Numbers: ER09-700-000.

Applicants: Minnesota MSW1 LLC.

Description: Minnesota MSW1, LLC submits petition for acceptance of their FERC Electric Tariff, Original Volume 1.

Filed Date: 02/13/2009.

Accession Number: 20090218-0168.

Comment Date: 5 p.m. Eastern Time on Friday, March 6, 2009.

Docket Numbers: ER09-701-001.

Applicants: PJM Interconnection L.L.C.

Description: PJM Interconnection, LLC submits an errata filing, Second Revised Sheet 74 has been corrected to reflect a designation of Third Revised Sheet 74, Superseding Second Revised Sheet 74 etc.

Filed Date: 02/17/2009.

Accession Number: 20090218-0055.

Comment Date: 5 p.m. Eastern Time on Tuesday, March 10, 2009.

Docket Numbers: ER09-723-000.

Applicants: American Transmission Company, LLC.

Description: American Transmission Company LLC submits executed Distribution-Transmission Interconnection Agreement with ATCLLC and Escanaba Municipal Electric Utility.

Filed Date: 02/17/2009.

Accession Number: 20090218-0052.

Comment Date: 5 p.m. Eastern Time on Tuesday, March 10, 2009.

Docket Numbers: ER09-724-000.

Applicants: Wisconsin Electric Power Company.

Description: Wisconsin Electric Power Company submits Notice of Termination of FERC Electric Tariff, Rate Schedule 119 with Northern States Power Company.

Filed Date: 02/17/2009.

Accession Number: 20090218-0051.

Comment Date: 5 p.m. Eastern Time on Tuesday, March 10, 2009.

Docket Numbers: ER09-725-000.

Applicants: Southern California Edison Company.

Description: Southern California Edison Company submits for filing revised rate sheets to the Small Generator Interconnection Agreement et al. with the County Sanitation Districts of Los Angeles County et al.

Filed Date: 02/17/2009.

Accession Number: 20090218-0053.

Comment Date: 5 p.m. Eastern Time on Tuesday, March 10, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-4218 Filed 2-26-09; 8:45 am]

BILLING CODE 6717-01-P